DEPARTMENT OF THE INTERIOR

Bureau of Indian Affairs

Proclaiming Certain Lands as Reservation for the Bay Mills Indian Community of Michigan

AGENCY: Bureau of Indian Affairs, Interior.

ACTION: Notice of Reservation Proclamation.

SUMMARY: The Assistant Secretary—Indian Affairs proclaimed approximately 12.50 acres, more or less, as an addition to the reservation of the Bay Mills Indian Community on June 19, 2000.

This notice is published in the exercise of authority delegated by the Secretary of the Interior to the Assistant Secretary—Indian Affairs by 209 DM 8.1.

FOR FURTHER INFORMATION CONTACT: Terrance L. Virden, Bureau of Indian Affairs, Director, Office of Trust Responsibilities, MS-4513/MIB/Code 200, 1849 C Street, N.W., Washington, D.C. 20240, telephone (202) 208-5831.

SUPPLEMENTARY INFORMATION: A proclamation was issued according to the Act of June 18, 1934 (48 Stat. 986; 25 U.S.C. 467), for the tracts of land described below. The land was proclaimed to be an addition to and part of the reservation of the Bay Mills Indian Community for the exclusive use of Indians on that reservation who are entitled to reside at the reservation by enrollment or tribal membership.

Reservation of the Bay Mills Indian Community

Chippewa County, Michigan

PARCEL 1

The North 100 feet of the South 430 feet of Government Lot 2, Section 31, Town 47 North, Range 2 West, Superior Township, Chippewa County, Michigan.

PARCEL 2

The South 330 feet of Government Lot 2, Section 31, Town 47 North, Range 2 West, Superior Township, Chippewa County, Michigan. Containing in the aggregate of 5.98 acres of land, more or less.

PARCEL 3

That part of Section 31, Town 47 North, Range 2 West of Government Lot 2, which are particularly described in Exhibit A, as Parcels A, B, C, and D.

EXHIBIT A

Parcel A: Part of Government Lot 2, Section 31, Town 47 North, Range 2 West, described as commencing at the West ¼ corner of said Section 31; thence East along the East and West ¼ line 2640 feet to an iron stake and the point of beginning of this description; thence South 87° 07′ East along the said East and West ¼ line 18 feet, more or less, to the water's edge; thence Southeasterly 270 feet, more or less, along the water's edge to a point; thence South 13° 14′ West 3 feet, more or less, to a point on a traverse line called Point “C”, said Point “C” being North 08° 12′ East 52.09 feet and South 34° 57′ East 334.45 feet from the aforementioned point of beginning; thence continuing South 13° 14′ West 202.23 feet to a point; thence North 77° 08′ West 176.29 feet to a point; thence North 02° 53′ East 380.66 feet to the point of beginning.

Parcel B: Part of Government Lot 2, Section 31, Town 47 North, Range 2 West, described as commencing at the West ¼ corner of said Section 31; thence East along the East and West ¼ line 2640 feet to an iron stake; thence South 02° 53′ West 591.15 feet to an iron stake and the point of beginning; thence North 02° 53′ East 210.49 feet to a point; thence South 77° 08′ East 200 feet to a point; thence South 01° 59′ West 161.71 feet to a point; thence South 88° 50′ West 200 feet to the point of beginning.

Parcel C: Part of Government Lot 2, Section 31, Town 47 North, Range 2 West, described as commencing at the West ¼ corner of said Section 31; thence East along the East and West ¼ line 2640 feet to an iron stake; thence South 02° 53′ West 880.00 feet to an iron stake and the point of beginning; thence North 02° 53′ East 288.85 feet to a point; thence North 88° 50′ East 555.01 feet to a point later referred to in this description as Point “A”; thence continuing North 88° 50′ East 8 feet, more or less, to the water's edge; thence Southeasterly along the water's edge 346 feet, more or less, to a point; thence North 87° 07′ West 20 feet, more or less, to a point on a traverse line, said point being South 15° 23′ East 345.46 feet from the aforementioned Point “A”; thence continuing North 87° 07′ West 661.09 feet to the point of beginning.

Parcel D: Part of Government Lot 2, Section 31, Town 47 North, Range 2 West, described as follows: Commencing at the West ¼ corner of said Section 31; thence East along the East and West ¼ line 2640 feet to an iron stake; thence South 02°53′ West 380.66 feet to an iron stake; thence South 77°08′ East 176.29 feet to an iron stake and the point of beginning of this description; thence North 13°14′ East 202.23 feet to a point on a traverse line later referred to in this description as Point “C”; thence continuing North 13°14′ East, 3 feet more or less to the water's edge; thence Southeasterly 328 feet more or less along the water's edge to a point; thence North 77°08′ West, 9 feet more or less on a point traverse line called Point “B”, said Point “B” being South 34°57′ East 20.13 feet and South 39°17′ East, 307.60 feet from aforementioned Point “C”; thence continuing North 77°08′ West, 259.11 feet to the point of beginning.

And part of Government Lot 2, Section 31, Town 47 North, Range 2 West described as follows: Commencing at the West ¼ corner of said Section 31, thence East along the East and West ¼ line 2640 feet to an iron stake; thence South 02°53′ West 591.15 feet to an iron stake; thence North 88°50′ East 200 feet to an iron stake and the Point of Beginning of this description; thence North 01°59′ East 161.71 feet to a point; thence South 77°08′ East 235.4 feet to a point later referred to in this description as Point “B”; thence continuing South 77°08′ East, 9 feet more or less to the water's edge; thence Southeasterly along the water's edge, 155 feet, more or less to a point; thence South 88°50′ West, 8 feet more or less to a point on a traverse line, said point being South 49°37′ East, 157.34 feet from aforementioned Point “B”, thence continuing South 88°50 West 355.01 feet to the point of beginning.

Together with the right of ingress and egress over gravel driveway across part of Government Lot 2, Section 31, Town 47 North, Range 2 West, described as follows: Commencing at the West ¼ corner of said Section 31; thence East along the East and West ¼ line 2640 feet to an iron stake; thence South 02°53′ West 591.15 feet to an iron stake and the point of beginning of this description; thence North 02°53′ East, 210.49 feet to a point; thence South 77°08′ East 200 feet to a South 88°50′ West 200 feet to the point of beginning of this description. Containing in the aggregate of 6.52 acres of land, more or less. Containing in the aggregate of 6.53 acres of land, more or less.

This proclamation does not affect title to the land described above, nor does it affect any valid existing easements for public roads and highways, for public utilities and for railroads and pipelines and any other rights-of-way or reservations of record.

Dated: June 19, 2000.
Kevin Gover,
Assistant Secretary—Indian Affairs.

[FR Doc. 00-17377 Filed 7-7-00; 8:45 am]

BILLING CODE 4310-02-P